DEPARTMENT OF TRANSPORTATION

Office of the Secretary

Aviation Proceedings, Agreements Filed the Week Ending November 19, 2004

The following Agreements were filed with the Department of Transportation under the provisions of 49 U.S.C. 412 and 414. Answers may be filed within 21 days after the filing of the application.

Docket Number: OST-2004-19687.

Date Filed: November 18, 2004.

Parties: Members of the International Air Transport Association.

Subject: PTC31 N&C/CIRC 0288 dated 19 November 2004, Mail Vote 420-TC31 North and Central Pacific Montreal, 25 October-2 November 2004, TC3 (except Japan)—North America, Caribbean Expedited Resolution 002at (except between Korea (Rep. of), Malaysia and USA) r1, Intended effective date: 15 January 2005.

Docket Number: OST-2004-19688.

Date Filed: November 18, 2004.

Parties: Members of the International Air Transport Association.

Subject: PTC123 0301 dated 19 November 2004, Mail Vote 421, Montreal, 25 October-2 November 2004, TC123 North/Mid/South Atlantic Expedited Resolutions (except between USA and Korea (Rep. of), Malaysia) r1-r20, Intended effective date: 15 January 2005.

Maria Gulczewski,
Supervisory Dockets Officer, Federal Register Liaison.

[FR Doc. 04-26810 Filed 12-6-04; 8:45 am]

BILLING CODE 4910-62-P